DEPARTMENT OF HOMELAND SECURITY

Coast Guard

[USCG-2008-0075]

Commercial Fishing Industry Vessel Safety Advisory Committee

AGENCY: Coast Guard, DHS.

ACTION: Notice of Open Teleconference Meeting.

SUMMARY: This notice announces a teleconference of the Commercial Fishing Industry Vessel Safety Advisory Committee (CFIVSAC). The purpose of the teleconference is for CFIVSAC to discuss and prepare recommendations for the Coast Guard concerning the work of the Communications Subcommittee and the Risk Management Subcommittee and to discuss other CFIVSAC actions resulting from its last public meeting on November 13 and 14, 2007.

DATES: The teleconference call will take place on Wednesday, February 27, 2008, from 1:30 p.m. until approximately 3 p.m. Eastern Standard Time.

ADDRESSES: Committee members and members of the public may participate by dialing 1-877-451-9782 on a touch-tone phone. You will then be prompted to enter your “participant code number,” which is 9559674#. Please ensure that you enter the # mark after the participant code. Public participation is welcomed; however, the number of teleconference lines is limited, and lines are available first-come, first-served. Members of the public may also participate by coming to Room 1116 U.S. Coast Guard Headquarters; 2100 Second Street, SW., Washington, DC 20593-0001. We request that members of the public who plan to attend this meeting notify Mr. Mike Rosecrans at 202-372-1245 so that he may notify building security officials. You may also gain access to this docket at http://dms.dot.gov/search/searchFormSimple.cfm. Background information is available at http://www.fishsafe.info.

FOR FURTHER INFORMATION CONTACT: Mr. Mike Rosecrans, Assistant Executive Director of CFIVSAC, telephone 202-372-1245, fax 202-372-1917.

SUPPLEMENTARY INFORMATION: The Federal Advisory Committee Act requires that public notice of these meetings be announced in the Federal Register [5 U.S.C. App. (Pub. L. 92-463)]. CFIVSAC is chartered under that Act. It provides advice and makes recommendations to the Secretary on issues regarding safety of commercial fishing industry vessels.

Tentative Agenda: Wednesday, February 27, 2008 1:30 p.m.: Welcome, introduction of new members and Opening Remarks—CFIVSAC Chairman Mr. Jerry Dzugan.

Open discussion concerning the work of the Communications Subcommittee and Task 07-01 Completion of Fishing Vessel Digest.

Discussion of the work of the Risk Management Subcommittee and Task 07-02—Roles and Mission and Risk Management Best Practices.

Discussion of Task 07-03—Long Range Goals for the Committee.

Public comment period.

Discussion of plans for next meeting.

3 p.m.: Adjourn.

This tentative agenda is subject to change and the meeting may adjourn early if all

Committee business has been completed.

Public Participation

The Chairman of CFIVSAC is empowered to conduct the teleconference in a way that will, in his judgment, facilitate the orderly conduct of business. During its teleconference, the Committee welcomes public comment. The Committee will make every effort to hear the views of all interested parties, including the public. Written comments may be submitted to Mr. Mike Rosecrans, Assistant Executive Director, CFIVSAC; Commandant (CG-5433); 2100 Second Street, SW., Washington, DC 20593-0001.

Information on Services for Individuals With Disabilities

For information on facilities or services for individuals with disabilities or to request special assistance at the meeting, contact Mr. Rosecrans as soon as possible.

Dated: February 7, 2008.
H.L. Hime,
Acting Director of Commercial Standards and Regulations.

[FR Doc. 08-656 Filed 2-8-08; 1:54 pm]

BILLING CODE 4910-15-P